DEPARTMENT OF ENERGY

Federal Energy Regulatory Commission

[Docket No. CP04-9-000]

Gulfstream Natural Gas System, L.L.C.; Notice of Request Under Blanket Authorization

November 3, 2003.

Take notice that on October 24, 2003, Gulfstream Natural Gas System, L.L.C. (Gulfstream), 2701 North Rocky Point Drive, Suite 1050, Tampa, Florida, filed a request pursuant to sections 157.205, 157.208(b)(2) and 157.211(a)(2) of the Federal Energy Regulatory Commission's (Commission) Regulations under the Natural Gas Act (NGA), as amended, and blanket certificate authority granted February 22, 2001 in Docket No. CP00-008-000, 94 FERC ¶ 61,185 for authorization to construct, own and operate 5.4 miles of 30-inch pipeline (Martin connector) to a power plant in Martin County, Florida, all as more fully set forth in the request, which is on file with the Commission, and open for public inspection. This filing is available for review at the Commission or may be viewed on the Commission's Web site at http://www.ferc.gov, using the “eLibrary” link. Enter the docket number excluding the last three digits in the docket number field to access the document. For assistance, please contact FERC Online Support at FERCOnlineSupport@ferc.gov or toll-free at (866) 208-3676 or for TTY, contact (202) 502-8659.

Any questions regarding the application may be directed to P. Martin Teague, Assistant General Counsel, Gulfstream Natural Gas System, L.L.C., 2701 Rocky Point Drive, Tampa, Florida 33607, at (813) 282-6609, or pmteague@duke-energy.com.

Any person or the Commission's staff may, within 45 day after issuance of the instant notice by the Commission, file pursuant to Rule 214 of the Commission's Procedural Rules (18 CFR 385.214) a motion to intervene or notice of intervention and pursuant to section 157.205 of the Regulations under the NGA (18 CFR 157.205), a protest to the request. If no protest is filed within the time allowed therefor, the proposed activity shall be deemed to be authorized effective the day after the time allowed for filing a protest. If a protest is filed and not withdrawn within 30 days after the time allowed for filing a protest, the instant request shall be treated as an application for authorization pursuant to section 7 of the NGA. Comments, protests and interventions may be filed electronically via the Internet in lieu of paper; see 18 CFR 385.2001(a)(1)(iii) and the instructions on the Commission's web site under the “e-Filing” link. The Commission strongly encourages electronic filings.

Comment date: December 18, 2003.

Magalie R. Salas,
Secretary.

[FR Doc. E3-00187 Filed 11-07-03; 8:45 am]

BILLING CODE 6717-01-P